INTERNATIONAL TRADE COMMISSION

[USITC SE-05-047]

Sunshine Act Meeting; Notice

Agency Holding the Meeting: U.S. International Trade Commission.

Time and Date: January 4, 2006 at 11 a.m.

Place: Room 101, 500 E Street, SW., Washington, DC 20436, Telephone: (202) 205-2000.

Status: Open to the public.

Matters To Be Considered:

1. Agenda for future meetings: none

2. Minutes

3. Ratification List

4. Inv. No. 731-TA-663 (Second Review) (Paper Clips from China)—briefing and vote. (The Commission is currently scheduled to transmit its determination and Commissioners' opinions to the Secretary of Commerce on or before January 18, 2006.)

5. Outstanding action jackets: none

In accordance with Commission policy, subject matter listed above, not disposed of at the scheduled meeting, may be carried over to the agenda of the following meeting.

Issued: December 20, 2005.
By order of the Commission.
Marilyn R. Abbott,
Secretary to the Commission.

[FR Doc. 05-24443 Filed 12-20-05; 3:17 pm]

BILLING CODE 7020-02-P